DEPARTMENT OF THE INTERIOR

Bureau of Land Management

[WY-100-2008-1110-PI]

Notice of Seasonal Closures of Public Lands to Human Presence and/or Motorized Vehicle Use

AGENCY: Bureau of Land Management, Interior.

ACTION: Notice of Seasonal Closures of Public Lands to Human Presence and/or Motorized Vehicle Use.

SUMMARY: Pursuant to 43 Code of Federal Regulations (CFR) subpart(s) 8341, 8364, and 9268, the Bureau of Land management (BLM) announces the seasonal closure of certain BLM-administered public lands under the jurisdiction of the Pinedale, Wyoming Field Office to all types of motor vehicle use (i.e., snowmobiles, all-terrain vehicles, and any other motorized vehicles including trucks, sport-utility vehicles, cars, motorcycles, etc.) each year during the period of January 1 through April 30. Elk feedground areas will be closed each year to any human presence from November 15 through April 30. This seasonal closure is needed to protect public lands and resources and to minimize stress to wintering elk, moose, pronghorn antelope, and mule deer. This seasonal closure affects public lands located within the Mesa, Ryegrass, Bench Corral, Deer Hills, Calpet, and Miller Mountain winter ranges as well as the Franz, Finnegan, Bench Corral, Scab Creek, Fall Creek, Black Butte, and North Piney elk feedgrounds as more particularly described in the SUPPLEMENTARY INFORMATION section below. Except for travel on highways or county roads, motorized vehicle travel within these areas will only be allowed with written authorization from the Pinedale Field Manager. Personnel of the BLM, Wyoming Game and Fish Department, U.S. Department of Agriculture-APHIS and Forest Service, U.S. Fish & Wildlife Service, and law enforcement personnel are exempt from this closure only when performing official duties. Operators of existing oil and gas facilities may perform maintenance and pumping, as approved, and livestock operators may perform permitted activities.

DATES: The seasonal motorized vehicle closure will be effective annually from January 1 through April 30. The no human presence closure will be effective annually from November 15 through April 30.

FOR FURTHER INFORMATION CONTACT: Chuck Otto, Field Manager or Rusty Kaiser, Wildlife Biologist, telephone: (307) 367-5300, Bureau of Land Management, P.O. Box 768, Pinedale, Wyoming 82941.

SUPPLEMENTARY INFORMATION: These crucial winter range habitat areas and the management thereof are addressed in the Pinedale Resource Management Plan (RMP) Record of Decision which was approved on December 12, 1988. The RMP identifies areas of crucial winter range and states that seasonal closures for motorized vehicles may be used to protect big game winter range. Losses of wintering habitat from development activity can reduce the area available to the wintering animals. These impacts to wintering wildlife are compounded by significant human activity, such as day and night wildlife observation, still and video photography, snowmobiling, and antler gathering.

The following BLM administered lands are closed to motorized vehicles each year from January 1 through April 30: the Ryegrass, Bench Corral, Deer Hills, Calpet, and Miller Mountain winter ranges including all BLM administered lands north of Fontenelle Creek, east of the U.S. Forest Service Boundary, west of Highway 189, and south of Horse Creek, which contains approximately 444,000 acres; and the Mesa winter range including all BLM administered lands east of County Road 110 (East Green River Road), north of County Road 136 (Paradise Valley Road), west of the New Fork River, and south of State Highway 191, which contains approximately 76,000 acres; the Franz elk winter feedground (T36N, R112W) containing 680 acres. The following feedgrounds are closed to human presence each year from November 15 through April 30: the Finnegan elk winter feedground (T30N, R114W) containing approximately 1920 acres; the Bench Corral elk winter feedground (T31-32N, R112W) containing approximately 2560 acres; the Fall Creek elk winter feedground (T33N, R108W) containing approximately 160 acres; the Scab Creek elk winter feedground (T33N, R106-107W) containing approximately 2,240 acres; the North Piney elk winter feedground (T31N, R114W) containing approximately 1,080 acres; and the Black Butte elk winter feedground (T36-37N, R114W) containing approximately 320 acres.

Signs will be posted at key locations that provide access into the closure areas. Additional information and maps will be available at the Pinedale Field Office, 1625 West Pine, Pinedale, Wyoming 82941.

Seasonal closure orders may be implemented as provided in 43 CFR, subparts 8341.2 and 8364.1. Violations of this closure are punishable by a fine not to exceed $1000.00, and/or imprisonment not to exceed 12 months.

Chuck Otto,
Pinedale Field Office Manager.

[FR Doc. E8-30952 Filed 12-29-08; 8:45 am]

BILLING CODE 4310-22-P